NUCLEAR REGULATORY COMMISSION

[Docket No. 70-7020; NRC-2022-0053]

Sensor Concepts & Applications, Inc.

AGENCY: Nuclear Regulatory Commission.

ACTION: License renewal; issuance.

SUMMARY: The U.S. Nuclear Regulatory Commission (NRC) has renewed Special Nuclear Materials (SNM) License No. SNM-2017, to Sensor Concepts & Applications, Inc. (SCA, the licensee) located in Glen Arm, Maryland. The renewed license authorizes SCA to continue to possess and use SNM for a period of 10 years and will expire on July 26, 2033.

DATES: License No. SNM-2017 was issued on July 27, 2023, and is effective as of the date of issuance.

ADDRESSES: Please refer to Docket ID NRC-2022-0053 when contacting the NRC about the availability of information regarding this document. You may obtain publicly available information related to this document using any of the following methods:

• Federal Rulemaking website: Go to https://www.regulations.gov and search for Docket ID NRC-2022-0053. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. ET, Monday through Friday, except Federal holidays.

FOR FURTHER INFORMATION CONTACT: Jennifer Tobin, Office of Nuclear Material Safety and Safeguards, U.S. Nuclear Regulatory Commission, Washington, DC 20555-0001, telephone: 301-415-2328, email: Jennifer.Tobin@nrc.gov.

SUPPLEMENTARY INFORMATION:

I. Background

Sensor Concepts & Applications, Inc. (SCA) is a privately held company in Glen Arm, Maryland. SCA possesses and uses SNM in greater than critical mass quantities for research and development of radiation detection instrumentation at its location in Glen Arm, Maryland as well as other locations selected by the U.S. Department of Defense (DOD). The quantity of SNM possessed and used by SCA requires an NRC-issued SNM license pursuant to part 70 of title 10 of the Code of Federal Regulations (10 CFR), “Domestic licensing of special nuclear material.”

II. Discussion

Pursuant to 10 CFR 2.106, the NRC is providing notice of the issuance of renewal of a 10 CFR part 70 license, SNM-2017, to SCA. The license authorizes SCA to possess and use SNM in support of the DOD, Defense Threat Reduction Agency, and the United States Army. The supporting activities include concept demonstrations, test and evaluation, characterization evaluations, and operator training activities to use technology to demonstrate techniques to detect special nuclear materials and clear alarms that represent a non-threat.

SCA's original license renewal application for a 10-year license was made by letter dated November 24, 2021. On February 1, 2022, the NRC sent SCA an acceptance letter, noting that the license renewal application contained sufficient information for a detailed technical review. SCA was also notified that, since it filed its license renewal application at least 30 days before the license's expiration date, pursuant to the timely renewal provisions in 10 CFR 70.38(a), SCA was permitted to continue using its SNM in accordance with the existing SNM-2017 license, pending a final decision by the Commission on the license renewal application.

On March 7, 2022, a notice of receipt of SCA's license renewal application with an opportunity for the public to request a hearing and petition for leave to intervene was published in the Federal Register (87 FR 12740). The NRC did not receive a request for a hearing or for a petition for leave to intervene.

The license renewal application was subsequently supplemented by letters dated May 26, 2022, September 22, 2022, October 4, 2022, and November 17, 2022.

The NRC staff determined that SCA's proposed licensed activities meet the categorical exclusion in 10 CFR 51.22(c)(14)(v) for the use of radioactive materials for research and development and for educational purposes. Therefore, an environmental assessment and an environmental impact statement are not required for the renewal of the SNM-2017 license.

The NRC finds that the renewed license complies with the standards and requirements of the Atomic Energy Act of 1954, as amended, and the NRC's rules and regulations as set forth in 10 CFR chapter 1. Accordingly, the renewed license issued on July 27, 2023, is effective immediately. The NRC prepared a safety evaluation report for the renewal of License SNM-2017 and concluded that the licensee can continue to use and possess SNM in accordance with its license without endangering the health and safety of the public, and that this action will not significantly affect the quality of the human environment for the duration of the license.

III. Availability of Documents

Documents related to this action, including the license renewal application and other supporting documentation, are available to interested persons as indicated.

Document description | ADAMS accession No.
License Renewal Application (Initial), dated November 24, 2021 | ML22027A596.
Acceptance of SCA's License Renewal Application, dated February 1, 2022 | ML22021B672.
SCA Supplemental Information, dated May 26, 2022 | ML22159A247 (non-public, withheld pursuant to 10 CFR § 2.390).
SCA Supplemental Information, dated September 22, 2022 | ML22276A223 (Package) (non-public, withheld pursuant to 10 CFR § 2.390).
SCA Supplemental Information, dated October 4, 2022 | ML22291A023.
SCA Supplemental Information, dated November 17, 2022 | ML22333A720.
Letter—SNM-2017 License Renewal Transmittal, dated July 27, 2023. | ML23072A187.
SER on SCA License Renewal Application, dated July 27, 2023. | ML23179A142.
Renewed SNM-2017, dated July 27, 2023. | ML23073A189.

Dated: July 27, 2023.
For the Nuclear Regulatory Commission.
Carrie M. Safford,
Deputy Director, Division of Fuel Management, Office of Nuclear Material Safety and Safeguards.

[FR Doc. 2023-16310 Filed 7-31-23; 8:45 am]

BILLING CODE 7590-01-P